DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-014. Applicant: Department of Health and Human Services, NIH/NIEHS, 111 T.W. Alexander Drive, Research Triangle Park, NC 27709. Instrument: Electron Microscope, Model Tecnai G² 12 BioTWIN, BioTWIN Upgrade, and Accessories. Manufacturer: FEI Company, The Netherlands. Intended Use: The instrument is intended to be used to examine the ultrastructure of biological tissues from control animals (usually rats and mice) and those genetically altered or chemically treated to induce possible aberrations similar to those seen in various human diseases exemplified by cancer, liver malfunction and growth, maturation and neuronal anomalies. Objectives of the experimentation will be to understand the cellular and subcellular processes involved in the progression of the disease state, make recommendations for future studies, and suggest possible treatments or preventive therapies. Application accepted by Commissioner of Customs: March 11, 2003.

Docket Number: 03-015. Applicant: North Carolina State University, Campus Box 7212, Raleigh, NC 27695-7212. Instrument: Electron Beam Melting Machine, Model EBM S12. Manufacturer: Arcam AB, Sweden. Intended Use: The instrument is intended to be used to fabricate three-dimensional metallic-components having arbitrarily complex geometries. Several new materials will be developed with the aim of achieving strength-to-weight ratios that were not previously possible. Research investigating the fabrication of novel geometric shapes includes:

(1) Design and testing of conformal cooling in production tools with the aim of reducing cycle time and improving geometric accuracy.

(2) Design and testing of non-random cellular structures for weight reduction of metal components for aerospace and military applications using aluminum and titanium.

(3) Design and fabrication of custom biomedical implants using titanium and cobalt-chromium.

(4) Design, development and testing of novel fuel cell material compositions.

In addition, the instrument will be used for educational purposes in courses such as:

(1) IE 216, Manufacturing Engineering Practicum.

(2) IE 316, Manufacturing Engineering I—Processes.

(3) IE 514, Product Engineering.

(4) IE 589U, Biomodeling and Fabrication.

Application accepted by Commissioner of Customs: March 10, 2003.

Docket Number: 03-016. Applicant: University of Wisconsin-Eau Claire, 105 Garfield Avenue, Eau Claire, WI 54701. Instrument: Automatic Fusion Machine, Model AutoFluxer 4. Manufacturer: Breitlander Eichproben und Labormaterial GmbH, Germany. Intended Use: The instrument is intended to be used to fuse sample whole rock powder for geochemical analysis. The instrument produces fused glass beads which present a homogeneous smooth surface to the X-Ray Florescence Spectrometer for analysis of major elements (Si, Al, Fe, Mn, Mg, Ca, K, P). In addition, the instrument will be used in the following university courses:

(1) Geology 312—Mineralogy and Petrology I.

(2) Geology 313—Mineralogy and Petrology II.

(3) Geology 320—Sedimentation and Stratigraphy.

(4) Geology 330—Geochemistry.

Application accepted by Commissioner of Customs: March 10, 2003.

Gerald A. Zerdy,
Program Manager, Statutory Import Programs Staff.

[FR Doc. 03-8238 Filed 4-3-03; 8:45 am]

BILLING CODE 3510-DS-P